DEPARTMENT OF HOMELAND SECURITY

Federal Emergency Management Agency

[Docket ID: [FEMA-2015-0005; OMB No. 1660-0038]

Agency Information Collection Activities: Proposed Collection; Comment Request; Write Your Own (WYO) Company Participation Criteria; New Applicant

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning information collected from new applicants to the National Flood Insurance Program (NFIP), Write-Your-Own (WYO) Program.

DATES: Comments must be submitted on or before April 3, 2015.

ADDRESSES: To avoid duplicate submissions to the docket, please use only one of the following means to submit comments:

(1) Online. Submit comments at www.regulations.gov under Docket ID FEMA-2015-0005. Follow the instructions for submitting comments.

(2) Mail. Submit written comments to Docket Manager, Office of Chief Counsel, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Susan Bernstein, Program Specialist, FEMA, Federal Insurance and Mitigation Administration (FIMA), 202-212-2113 for additional information. You may contact the Records Management Division for copies of the proposed collection of information at facsimile number (202) 212-4701 or email address: FEMA-Information-Collections-Management@fema.dhs.gov.

SUPPLEMENTARY INFORMATION: Under the National Flood Insurance Program's (NFIP) Write Your Own (WYO) Program, the Federal Emergency Management Agency may enter into arrangements authorized by the National Flood Insurance Act of 1968, as amended (the Act) with individual private sector insurance companies that are licensed to engage in the business of property insurance. These companies may offer flood insurance coverage to eligible property owners utilizing their customary business practices. To facilitate the marketing of flood insurance, the Federal Government will be a guarantor of flood insurance coverage for WYO companies policies issued under the WYO arrangement. To ensure that a company seeking to return or participate in the WYO program is qualified, FEMA is requiring a one-time submission of information to determine the company's qualifications, as set forth in 44 CFR 62.24.

Collection of Information

Title: Write Your Own (WYO) Company Participation Criteria; New Applicant.

Type of Information Collection: Extension, without change, of a currently approved information collection.

OMB Number: 1660-0038.

FEMA Forms: None.

Abstract: New insurance companies that seek to participate in the WYO program, as well as former WYO companies seeking to return, must meet standards for WYO Financial Control Plan (approved under OMB Control# 1660-0020). Private Insurance Companies and/or public entity risk-sharing organizations wishing to enter or reenter the WYO program must demonstrate the ability to meet the financial requirements. The information allows FEMA to determine the applicant's capability of meeting program goals including marketing of flood insurance, training agents and staff in the program rules, and its capabilities for claims handling and disaster response.

Affected Public: Business of other for-profit.

Number of Respondents: 5.

Number of Responses: 5.

Estimated Total Annual Burden Hours: 35.

Estimated Annualized Burden Hours and Costs
Type of respondent | Form name/form No. | Number of respondents | Number of responses per respondent | Total number of responses | Average burden per response (in hours) | Total annual burden (in hours) | Average hourly wage rate | Total annual respondent cost
Business or Other for-profit (Insurance Industry) | Application Process/No Form | 5 | 1 | 5 | 7 hours | 35 | $64.28 | $2,249.80
Total |  | 5 |  | 5 |  | 35 |  | 2,249.80
Note: The “Avg. Hourly Wage Rate” for each respondent includes a 1.4 multiplier to reflect a fully-loaded wage rate.

Estimated Cost: The estimated annual cost to respondents for the hour burden is $2,249.80. There are no annual costs to respondents' operations and maintenance costs for technical services. There are no annual start-up or capital costs. The cost to the Federal Government is $5,409.18.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 22, 2015
Charlene D. Myrthil,
Director, Records Management Division, Mission Support, Federal Emergency Management Agency, Department of Homeland Security

[FR Doc. 2015-01933 Filed 1-30-15; 8:45 am]

BILLING CODE 9110-11-P